ENVIRONMENTAL PROTECTION AGENCY

[FRL-9936-76-Region 6]

Underground Injection Control Program; Hazardous Waste Injection Restrictions; Petition for Exemption Reissuance—Class I Hazardous Waste Injection; DuPont Pontchartrain, LaPlace, Louisiana

AGENCY: Environmental Protection Agency (EPA).

ACTION: Notice of a final decision on a no migration petition reissuance.

SUMMARY: Notice is hereby given that a reissuance of an exemption to the land disposal Restrictions, under the 1984 Hazardous and Solid Waste Amendments to the Resource Conservation and Recovery Act, has been granted to DuPont for three Class I hazardous injection wells located at their Pontchartrain site located in LaPlace, Louisiana. The company has adequately demonstrated to the satisfaction of the Environmental Protection Agency by the petition reissuance application and supporting documentation that, to a reasonable degree of certainty, there will be no migration of hazardous constituents from the injection zone for as long as the waste remains hazardous. This final decision allows the continued underground injection by DuPont, of the specific restricted hazardous wastes identified in this exemption reissuance, into Class I hazardous waste injection Wells 4, 7 and 8 until December 31, 2050, unless EPA moves to terminate this exemption. Additional conditions included in this final decision may be reviewed by contacting the Region 6 Ground Water/UIC Section. A public notice was issued August 19, 2015, and the public comment period closed on October 5, 2015. No comments were received. This decision constitutes final Agency action and there is no Administrative appeal. This decision may be reviewed/appealed in compliance with the Administrative Procedure Act.

DATES: This action is effective as of October 22, 2015.

ADDRESSES: Copies of the petition reissuance and all pertinent information relating thereto are on file at the following location:

Environmental Protection Agency, Region 6, Water Quality Protection Division, Source Water Protection Branch (6WQ-S), 1445 Ross Avenue, Dallas, Texas 75202-2733.

FOR FURTHER INFORMATION CONTACT: Philip Dellinger, Chief Ground Water/UIC Section, EPA—Region 6, telephone (214) 665-8324.

Dated: October 22, 2015.
William K. Honker,
P.E., Director, Water Quality Protection Division.

[FR Doc. 2015-28484 Filed 11-6-15; 8:45 am]

BILLING CODE 6560-50-P